DEPARTMENT OF HOUSING AND URBAN DEVELOPMENT

[Docket No. FR-4978-N-09]

Notice of Proposed Information Collection for Public Comment; Management Operations Certification

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: February 27, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number.)

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Management Operations Certification.

OMB Control Number: 2507-0106.

Description of the Need for the Information and Proposed Use: To meet the requirements of the Public Housing Assessment System (PHAS) rule, the Department has developed the management operations template that public housing agencies (PHAs) use to annually submit electronically specific management information to HUD. HUD uses the management operations information it collects from each PHA to assist in the evaluation and assessment of the PHAs' overall condition. Requiring PHAs to report electronically has enabled HUD to provide a more comprehensive assessment of the PHAs receiving Federal funds from HUD.

Agency Form Number, if Applicable: Form HUD-50072.

Members of Affected Public: Public housing agencies.

Estimation of the Total Number of Hours Needed to Prepare the Information Collection Including Number of Respondents: The estimated number of respondents is 3,174 PHAs that submit one certification annually. The average number for each PHA response is 1.147 hours, for a total reporting burden of 3,643 hours.

Status of the Proposed Information Collection: Extension of a currently approved collection.

Authority: Section 3506 of the Paperwork Reduction Act of 1995, 44 U.S.C. Chapter 35, as amended.

Dated: December 21, 2005.
Bessy Kong,
Deputy Assistant Director, Office of Policy, Program and Legislative Initiatives.

[FR Doc. E5-8084 Filed 12-28-05; 8:45 am]

BILLING CODE 4210-33-P